OFFICE OF MANAGEMENT AND BUDGET

Request for Comments on Proposed OMB Circular No. A-4, “Regulatory Analysis”

AGENCY: Office of Management and Budget.

ACTION: Notice of availability and request for comments.

SUMMARY: The Office of Management and Budget (OMB) is requesting comments on proposed Circular A-4, “Regulatory Analysis.”

DATES: Comments are requested on the proposed Circular on or before June 6, 2023.

ADDRESSES: The proposed Circular itself is available at https://www.whitehouse.gov/wp-content/uploads/2023/04/DraftCircularA-4.pdf. A preamble to the proposed Circular is available at https://www.whitehouse.gov/wp-content/uploads/2023/04/DraftCircularA-4Preamble.pdf.

Please submit comments via http://www.regulations.gov, a Federal website that allows the public to find, review, and submit comments on documents that agencies have published in the Federal Register and that are open for comment. Simply type “OMB-2022-0014” in the search box, click “Search,” click “Comment,” and follow the instructions for submitting comments. All comments received will be posted to http://www.regulations.gov, so commenters should not include information they do not wish to be posted (e.g., personal or confidential business information).

FOR FURTHER INFORMATION CONTACT: Office of Management and Budget, Office of Information and Regulatory Affairs, at MBX.OMB.OIRA.A4Modernization@omb.eop.gov.

SUPPLEMENTARY INFORMATION: Since 2003, OMB Circular A-4, Regulatory Analysis,¹ has provided guidance to Federal agencies on the development of regulatory analysis as required under Section 6(a)(3)(C) of Executive Order 12866 (Regulatory Planning and Review),² the Regulatory Right-to-Know Act,³ and a variety of related authorities. OMB has proposed revisions to the Circular, as well as a preamble that offers further context for prospective public commenters and peer reviewers. In addition to this request for public comments, OMB will be conducting a peer review of these materials in accordance with OMB's Final Information Quality Bulletin for Peer Review ⁴ and the Regulatory Right-to-Know Act.

¹ Office of Mgmt. & Budget, Exec. Office of the President, Circular A-4, Regulatory Analysis (Sept. 17, 2003), available at https://www.whitehouse.gov/wp-content/uploads/legacy_drupal_files/omb/circulars/A4/a-4.pdf.

² Exec. Order No. 12866, 58 FR 51735 (Oct. 4, 1993).

³ Public Law 106-554, section 624, 114 Stat. 2763A-161 (codified at 31 U.S.C. 1105 note).

⁴ Office of Mgmt. & Budget, Exec. Office of the President, OMB M-05-03, Final Information Quality Bulletin for Peer Review (Dec. 16, 2004), available at https://www.whitehouse.gov/wp-content/uploads/legacy_drupal_files/omb/memoranda/2005/m05-03.pdf.

Richard L. Revesz,
Administrator, Office of Information and Regulatory Affairs.

[FR Doc. 2023-07364 Filed 4-6-23; 4:15 pm]

BILLING CODE 3110-01-P